DEPARTMENT OF VETERANS AFFAIRS

[OMB Control No. 2900-0571]

Proposed Information Collection (NCA Customer Satisfaction Surveys (Headstone/Marker) Activity): Comment Request

AGENCY: National Cemetery Administration, Department of Veterans Affairs.

ACTION: Notice.

SUMMARY: The National Cemetery Administration (NCA), Department of Veterans Affairs (VA) is announcing an opportunity for public comment on the proposed collection of certain information by the agency. Under the Paperwork Reduction Act (PRA) of 1995, Federal agencies are required to publish notice in the Federal Register concerning each proposed collection of information, including each proposed extension of a currently approved collection, and allow 60 days for public comment in response to the notice. This notice solicits comments on the burden estimates relating to customer satisfaction surveys involving the National Cemetery Administration (NCA).

DATES: Written comments and recommendations on the proposed collection of information should be received on or before January 11, 2010.

ADDRESSES: Submit written comments on the collection of information through the Federal Docket Management System (FDMS) at http://www.Regulations.gov; or to Ronald Cheich, National Cemetery Administration (41B3), Department of Veterans Affairs, 810 Vermont Avenue, NW., Washington, DC 20420 or e-mail ronald.cheich@va.gov. Please refer to “OMB Control No. 2900-0571” in any correspondence. During the comment period, comments may be viewed online at FDMS.

FOR FURTHER INFORMATION CONTACT: Ronald Cheich at (202) 461-6686 or FAX (202) 501-2240.

SUPPLEMENTARY INFORMATION: Under the PRA of 1995 (Pub. L. 104-13; 44 U.S.C. 3501-3521), Federal agencies must obtain approval from the Office of Management and Budget (OMB) for each collection of information they conduct or sponsor. This request for comment is being made pursuant to Section 3506(c)(2)(A) of the PRA.

With respect to the following collection of information, VA invites comments on: (1) Whether the proposed collection of information is necessary for the proper performance of VA's functions, including whether the information will have practical utility; (2) the accuracy of VA's estimate of the burden of the proposed collection of information; (3) ways to enhance the quality, utility, and clarity of the information to be collected; and (4) ways to minimize the burden of the collection of information on respondents, including through the use of automated collection techniques or the use of other forms of information technology.

Title: Generic Clearance for NCA, and IG Customer Satisfaction Surveys.

OMB Control Number: 2900-0571.

Type of Review: Extension of a currently approved collection.

Abstract: Executive Order 12862, Setting Customer Service Standards, requires Federal agencies and Departments to identify and survey its customers to determine the kind and quality of services they want and their level of satisfaction with existing service. VA will use the data collected to maintain ongoing measures of performance and to determine how well customer service standards are met.

Affected Public: Individuals or households.

Estimated Annual Burden Hours, Burden per Respondents, and Number of Respondents:

I. National Cemetery Administration Focus Groups With:

a. Next of Kin (5 groups/10 participants per group/3 hours each session) = 150 hours.

b. Funeral Directors (5 groups/10 participants per group/3 hours each session) = 150 hours.

c. Veterans Service Organizations (5 groups/10 participants per group/3 hours each session) = 150 hours.

II. National Cemetery Administration Visitor Comments Cards (Local Use):

(2,500 respondents/5 minutes per card) = 208 hours.

III. National Cemetery Administration Mail Surveys With:

a. Next of Kin National Customer Satisfaction Survey (Mail to 15,000 respondents/30 minutes per survey) = 7,500 hours

b. Funeral Directors National Customer Satisfaction Survey (Mail to 4,000 respondents/30 minutes per survey) = 2,000 hours.

c. Veterans-At-Large National Customer Satisfaction Survey (Mail to 5,000 respondents/30 minutes per survey) = 2,500 hours.

IV. Program/Specialized Service Survey:

National Cemetery Administration Headstone and Marker/PMC Survey (Mail 6,000 surveys/15 minutes per each) = 1,000.

Frequency of Response: Annually.

Dated: November 9, 2009.
By direction of the Secretary:
Denise McLamb,
Program Analyst, Enterprise Records Service.

[FR Doc. E9-27278 Filed 11-10-09; 8:45 am]

BILLING CODE P